DEPARTMENT OF AGRICULTURE

Food and Nutrition Service

Agency Information Collection Activities: Proposed Collection; Comment Request—Annual Report of State Revenue Matching

AGENCY: Food and Nutrition Service, USDA.

ACTION: Notice.

SUMMARY: In accordance with the Paperwork Reduction Act of 1995, the Food and Nutrition Service (FNS) is publishing for public comment a summary of a proposed information collection. The proposed collection is an extension of a collection currently approved that reports on state revenue used to comply with matching requirements in the National School Lunch Program.

DATES: Comments on this notice must be received by September 20, 2004, to be assured of consideration.

ADDRESSES: Send comments and requests for copies of this information collection to Alan Rich, Program Reports, Analysis, and Monitoring Branch, Budget Division, Food and Nutrition Service, USDA, 3101 Park Center Drive, Alexandria, VA 22302.

Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including the use of appropriate, automated, electronic, mechanical, or other technological collection techniques or other forms of information technology.

All comments will be summarized and included in the request for Office of Management and Budget approval of the information collection. All comments will become a matter of public record.

FOR FURTHER INFORMATION CONTACT: Alan Rich, (703) 305-2109.

SUPPLEMENTARY INFORMATION: Title: Annual Report of State Revenue Matching.

OMB Number: 0584-0075.

Expiration Date: October 31, 2004.

Type of Request: Extension of a currently approved collection.

Abstract: The National School Lunch Program is mandated by the National School Lunch Act, 42 U.S.C. 1751, et seq., and the Child Nutrition Act of 1966, 42 U.S.C. 1771, et seq. Program implementing regulations are contained in 7 CFR part 210. In accordance with § 210.17(g), State agencies must submit an annual report of state revenue matching in order to receive Federal reimbursement for meals served to eligible participants.

Respondents: State agencies that administer the National School Lunch Program.

Number of Respondents: 54.

Estimated Number of Responses per Respondent: The number of responses is estimated to be one submission per State agency per school year.

Estimate of Burden: Public reporting burden for this collection of information is estimated to average 80 hours per respondent per submission.

Estimated Total Annual Burden on Respondents: 4,320 hours.

Dated: July 13, 2004.
Roberto Salazar,
Administrator, Food and Nutrition Service.

[FR Doc. 04-16434 Filed 7-19-04; 8:45 am]

BILLING CODE 3410-30-P